DEPARTMENT OF COMMERCE

International Trade Administration

[A-549-502]

Certain Welded Carbon Steel Pipes and Tubes From Thailand; Notice of Amended Final Results of Antidumping Duty Administrative Review in Accordance With Final Court Decision

AGENCY: Import Administration, International Trade Administration, Department of Commerce.

ACTION: Notice of Amended Final Results of Administrative Review in Accordance with Final Court Decision on Certain Welded Carbon Steel Pipes and Tubes from Thailand.

EFFECTIVE DATE: January 18, 2000.

FOR FURTHER INFORMATION CONTACT: Dana Mermelstein or Javier Barrientos, AD/CVD Enforcement Group III, Office VII, Room 7866, Import Administration, International Trade Administration, U.S. Department of Commerce, 14th Street and Constitution Avenue, NW, Washington, DC 20230; telephone: (202) 482-3208 or (202) 482-2243, respectively.

SUMMARY: On October 6, 1999, the U.S. Court of International Trade (the Court) affirmed the Department of Commerce's (the Department) remand determination of the final results of the antidumping duty administrative review of Certain Welded Carbon Steel Pipes and Tubes from Thailand. As no further appeals have been filed and there is now a final and conclusive court decision in this action, we are amending our final results.

SUPPLEMENTARY INFORMATION:

Background

On October 16, 1997, the Department published the final results of the administrative review in Certain Welded Carbon Steel Pipes and Tubes from Thailand (62 FR 53808) (Final Results), covering the period March 1, 1995 through February 29, 1996.

Respondents challenged the Department's application of the affiliated parties standard, provided in 19 U.S.C. 1677(33) (1994), and our subsequent conclusion that Saha Thai was affiliated with several companies based on common control by various family groupings. In the Final Results, the Department had determined pursuant to 19 U.S.C. 1677(33) (1994), that Saha Thai was affiliated with two producers, Thai Tube and Thai Hong; three home market customers; and, two members of the Siam Steel Group. The Department found that Saha Thai had significantly impeded the review by failing to disclose these affiliations. Thus, for the Final Results, the Department determined a dumping margin of 29.89 per-cent for the period of review (POR), based on total adverse facts available. On March 23, 1999, the Court remanded these final results. See Ferro Union, Inc. v. United States, 44 F. Supp.2d 1310 (Ct. Int'l Trade 1999) (Ferro Union).

The Court found that the Department's interpretation of “family,” as stated in 19 U.S.C. § 1677(33)(A), was reasonable and affirmed that interpretation. However, the Court also found that the Department had provided insufficient guidance with respect to its interpretation of the term; specifically, that more distantly-related family members, beyond those listed in the statute, were to be included. Therefore, the Court ordered the Department to reconsider the use of total adverse facts available. The Court also instructed the Department to revisit other factual determinations. See (Ferro Union). The Department issued its remand determination on July 6, 1999. See Remand Determination: Ferro Union, Inc. and Asoma Corporation v. United States, Court No. 97-11-01973 (hereinafter “Remand Results” or “RR”), in which the Department calculated a dumping margin based on partial adverse facts available.

On October 6, 1999, the Court affirmed the Department's remand results, upholding the use of partial adverse facts available. See Ferro Union Inc and Asoma Corporation v. The United States, Slip Op. 99-104 (CIT, October 6, 1999). Pursuant to the Court's order, we have placed on the record in this case the margin calculation program using partial adverse facts available.

Amendment to Final Results of Review

Because no further appeals have been filed and there is now a final and conclusive decision in the court proceeding, effective as of the publication date of this notice, we are amending the Final Results, and establishing the following revised dumping margin:

Certain Welded Carbon Steel Pipes and Tubes from Thailand (POR 1995-1996)
Producer/management/exporter | Weighted-average margin
Saha Thai | 9.52 percent.

The “All Others Rate” was not affected by the Remand Determination, and remains at 15.67 per-cent. See Final Results FR 62 (37543).

The Department will instruct the Customs Service to assess these revised antidumping duties on all appropriate entries. The Department will issue appraisement instructions directly to the Customs Service.

Dated: January 5, 2000.
Robert S. LaRussa,
Assistant Secretary for Import Administration.

[FR Doc. 00-1103 Filed 1-14-00; 8:45 am]

BILLING CODE 3510-DS-P